DEPARTMENT OF ENERGY

Federal Energy Regulatory Commission

Combined Notice of Filings #1

Take notice that the Commission received the following exempt wholesale generator filings:

Docket Numbers: EG17-69-000.

Applicants: Paulding Wind Farm IV LLC.

Description: Notice of Self-Certification of Exempt Wholesale Generator Status of Paulding Wind Farm IV LLC.

Filed Date: 2/21/17.

Accession Number: 20170221-5251.

Comments Due: 5 p.m. ET 3/14/17.

Take notice that the Commission received the following electric rate filings:

Docket Numbers: ER13-2483-002.

Applicants: Old Dominion Electric Cooperative.

Description: Compliance filing: Opinion No. 553 Compliance Filing to be effective 1/1/2014.

Filed Date: 2/21/17.

Accession Number: 20170221-5274.

Comments Due: 5 p.m. ET 3/14/17.

Docket Numbers: ER16-791-001.

Applicants: Southwest Power Pool, Inc.

Description: Compliance filing: Compliance Filing in ER16-791—Settlement Revenue Distribution Mechanism to be effective 2/1/2016.

Filed Date: 2/22/17.

Accession Number: 20170222-5054.

Comments Due: 5 p.m. ET 3/15/17.

Docket Numbers: ER16-2561-001.

Applicants: Sunflower Wind Project, LLC.

Description: Notice of Non-Material Change in Status of Sunflower Wind Project, LLC.

Filed Date: 2/21/17.

Accession Number: 20170221-5294.

Comments Due: 5 p.m. ET 3/14/17.

Docket Numbers: ER17-1006-000.

Applicants: AEP Generating Company.

Description: Notice of Termination of Unit Power Sales Agreement for Lawrenceburg Facility of AEP Generating Company.

Filed Date: 2/21/17.

Accession Number: 20170221-5292.

Comments Due: 5 p.m. ET 3/14/17.

Docket Numbers: ER17-1007-000.

Applicants: Duke Energy Florida, LLC.

Description: Tariff Cancellation: Termination of RS No. 217 DEF-Phillips Plant Operating Agreement to be effective 2/23/2017.

Filed Date: 2/22/17.

Accession Number: 20170222-5053.

Comments Due: 5 p.m. ET 3/15/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 22, 2017.
Nathaniel J. Davis, Sr.,
Deputy Secretary.

[FR Doc. 2017-04210 Filed 3-3-17; 8:45 am]

BILLING CODE 6717-01-P